DEPARTMENT OF HEALTH AND HUMAN SERVICES

Centers for Disease Control and Prevention

NCHS, Data Policy and Standards Staff: Meeting

National Center for Health Statistics (NCHS), Data Policy and Standards Staff, announces the following meeting.

Name: ICD-9-CM Coordination and Maintenance Committee meeting.

Times and Dates: 9 a.m.-4 p.m., December 5-6, 2002.

Place: Centers for Medicare and Medicaid Services (CMS) Auditorium, 7500 Security Boulevard, Baltimore, Maryland.

Status: Open to the public, but limited by the space available. Because of fire code requirements, should the number of attendants meet the capacity of the room, the meeting room will be closed.

Purpose: The ICD-9-CM Coordination and Maintenance (C&M) Committee will hold its final meeting of the 2002 calendar year cycle on Thursday and Friday, December 5-6, 2002. The C&M meeting is a public forum for the presentation of proposed modifications to the International Classification of Diseases, Ninth-Revision, Clinical Modification.

Matters to Be Discussed: Agenda items include:

Subgaleal hemorrhage

Septic shock

Cerebral infarction of unknown vessel

Early satiety

Impaired fasting glucose

Carnithine deficiency

Late newborn

Hyperaldosteronism

Scrotal transposition

Peyronie's disease

Rhabdomyolysis

Hypercoagulable states

Postpartum cardiomyopathy

ICD-10 Procedure Classification System (PCS)—Update

Multi-level spinal fusion

Artificial heart

Interleukin 2 (IL-2)

Laparoscopic/Thorascopic approaches

Radioactive Isotope therapy

Addenda

Contact Person for Additional Information: Amy Blum, Medical Classification Specialist, Data Policy and Standards Staff, NCHS, 6526 Belcrest Road, Room 1100, Hyattsville, Maryland 20782, telephone 301/458-4106 (diagnosis), Amy Gruber, Health Insurance Specialist, Division of Acute Care, CMS, 7500 Security Blvd., Room C4-07-07, Baltimore, Maryland, 21244 telephone 410-786-1542 (procedures).

Notice: In the interest of security, (CMS) has instituted stringent procedures for entrance into the building by non-government employees. Persons without a government I.D. will need to show a photo I.D. and sign-in at the security desk upon entering the building.

The Director, Management Analysis and Services Office, has been delegated the authority to sign Federal Register notices pertaining to announcements of meetings and other committee management activities, for both CDC and the Agency for Toxic Substances and Disease Registry.

Dated: October 25, 2002.
John Burckhardt,
Acting Director, Management Analysis and Services Office, Centers for Disease Control and Prevention.

[FR Doc. 02-27956 Filed 11-1-02; 8:45 am]

BILLING CODE 4160-18-P